DEPARTMENT OF THE INTERIOR

Bureau of Reclamation

Glen Canyon Adaptive Management Work Group (AMWG) and Glen Canyon Technical Work Group (TWG)

AGENCY: Bureau of Reclamation, Interior.

ACTION: Notice; correction.

SUMMARY: The Bureau of Reclamation published a document in the Federal Register on February 24, 2000, concerning the announcement of an upcoming public meeting of the Glen Canyon Dam Adaptive Management Work Group. The meeting has been canceled.

FOR FURTHER INFORMATION CONTACT: Randall Peterson, Bureau of Reclamation, Upper Colorado Regional Office, 125 South State Street, Room 6107, Salt Lake City, Utah 84138-1102; telephone (801) 524-3758; faxogram (801) 524-3858; E-mail at rpeterson@uc.usbr.gov at least FIVE (5) days prior to the meeting. Any written comments received will be provided to the TWG and AMWG members at the meetings.

In the Federal Register of February 24, 2000, in FR Doc. 00-4205, on page 9296, in the third column, correct the information under April 4-5, 2000, Phoenix, Arizona, to read as follows:

April 4-5, 2000, Phoenix, Arizona—The AMWG Meeting has been canceled. For further information on future meeting dates, please check out the Bureau of Reclamation web site at http://www.uc.usbr.gov/amp.

Dated: March 15, 2000.
Erica Petacchi,
Federal Register Liaison.

[FR Doc. 00-6899 Filed 3-20-00; 8:45 am]

BILLING CODE 4310-94-P